ENVIRONMENTAL PROTECTION AGENCY

40 CFR Part 63

[EPA-HQ-OAR-2016-0490; FRL-9959-53-OAR]

RIN 2060-AS85

National Emission Standards for Hazardous Air Pollutants: Publicly Owned Treatment Works

AGENCY: Environmental Protection Agency (EPA).

ACTION: Proposed rule; extension of comment period.

SUMMARY: On December 27, 2016, the Environmental Protection Agency (EPA) proposed a rule titled, “National Emission Standards for Hazardous Air Pollutants (NESHAP): Publicly Owned Treatment Works (POTW).” The EPA is extending the comment period on the proposed rule that was scheduled to close on February 27, 2017, by 30 days until March 29, 2017. The EPA is making this change based on one request for additional time to prepare comments on this proposed rule.

DATES: The public comment period for the proposed rule published in the Federal Register on December 27, 2016 (81 FR 95352), is being extended. Written comments must be received on or before March 29, 2017.

ADDRESSES: The EPA has established a docket for the proposed rulemaking (available at http://www.regulations.gov). The Docket ID No. is EPA-HQ-OAR-2016-0490. Submit your comments, identified by Docket ID No. EPA-HQ-OAR-2016-0490, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Karen Marsh, Sector Policies and Programs Division, Office of Air Quality Planning and Standards (E143-05), Environmental Protection Agency, Research Triangle Park, NC 27711; telephone number: (919) 541-1065; email address: marsh.karen@epa.gov.

SUPPLEMENTARY INFORMATION: To allow additional time for stakeholders to provide comments, the EPA has decided to extend the public comment period until March 29, 2017.

Dated: February 13, 2017.
Stephen Page,
Director, Office of Air Quality Planning and Standards.

[FR Doc. 2017-03431 Filed 2-21-17; 8:45 am]

BILLING CODE 6560-50-P